COMMISSION ON CIVIL RIGHTS

Agenda and Notice of Public Meeting of the Tennessee Advisory Committee

Notice is hereby given, pursuant to the provisions of the rules and regulations of the U.S. Commission on Civil Rights (Commission) and the Federal Advisory Committee Act (FACA) that a meeting of the Tennessee Advisory Committee (Committee) to the Commission will convene by conference call at 10:00 a.m. Central Time on Wednesday, February 19, 2014. The purpose of the meeting is for the Committee to discuss its report to the Commission on ex-felon voting rights.

This meeting is available to the public through the following toll-free call-in number: 877-446-3914, conference ID: 2895602. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are entitled to submit written comments. The comments must be received in the regional office by March 19, 2014. The address is U.S. Commission on Civil Rights, Southern Regional Office, 61 Forsyth St., Suite 16T126, Atlanta, GA 30303. Comments may also be emailed to Peter Minarik at pminarik@usccr.gov.

Records generated from this meeting may be inspected and reproduced at the Southern Regional Office, as they become available, both before and after the meeting. Persons interested in the work of this advisory committee are advised to go to the Commission's Web site, www.usccr.gov, or to contact the Southern Regional Office at the above email or street address.

The meeting will be conducted pursuant to the provisions of the rules and regulations of the Commission and FACA.

Dated: Dated January 30, 2014.
David Mussatt,
Acting Chief, Regional Programs Coordination Unit.

[FR Doc. 2014-02354 Filed 2-4-14; 8:45 am]

BILLING CODE 6335-01-P